DEPARTMENT OF TRANSPORTATION

Coast Guard

33 CFR Part 165

[CGD1-01-021]

RIN 2115-AA97

Safety Zone: McArdle Bridge Repairs—Boston, MA

AGENCY: Coast Guard, DOT.

ACTION: Notice of proposed rulemaking.

SUMMARY: The Coast Guard proposes to establish a temporary safety zone for repairs to the McArdle Bridge, during seven 3½ day closure periods between April 2, 2001 and August 24, 2001, in Boston, MA. The safety zone would temporarily close all waters of Boston Inner Harbor one hundred (100) yards upstream and downstream from the McArdle Bridge. The safety zone would prohibit entry into or movement within this portion of Boston Inner Harbor during the closure periods and is needed to allow The Middlesex Corporation (TMC) to conduct repairs on the McArdle Bridge.

DATES: Comments and related material must reach the Coast Guard on or before March 15, 2001.

ADDRESSES: You may mail comments and related material to Marine Safety Office Boston, 455 Commercial Street, Boston, MA. Marine Safety Office Boston maintains the public docket for this rulemaking. Comments and material received from the public, as well as documents indicated in this preamble as being available in the docket, will become part of the docket and will be available for inspection or copying at Marine Safety Office Boston between 8 a.m. and 3 p.m., Monday through Friday, except Federal holidays.

FOR FURTHER INFORMATION CONTACT: Lieutenant (junior grade) Dave Sherry, Marine Safety Office Boston, Waterways Management Division, at (617) 223-3006.

SUPPLEMENTARY INFORMATION:

Request for Information

We encourage you to participate in this rulemaking by submitting comments and related material. If you do so, please include your name and address, identify the docket number for this rulemaking (CGD1-01-021), indicate the specific section of this document to which each comment applies, and give the reason for each comment. Please submit all comments and related material in an unbound format, no larger than 8½ by 11 inches, suitable for copying. If you would like to know your comments reached us, please enclose a stamped, self addressed postcard or envelope. We will consider all comments and material received during the comment period. We may change this proposed rule in view of them.

Public Meeting

The Coast Guard plans to hold a public meeting on March 1, 2001 at the Tosco Terminal, located at 467 Chelsea Street in East Boston, MA, to discuss the scope of the bridge repairs and proposed rule. For information regarding this meeting contact LTjg Dave Sherry at the address listed under ADDRESSES. If you wish to hold additional meetings, you may contact LTjg Dave Sherry with a request in writing explaining why one would be beneficial. If we determine an additional meeting would aid in this rulemaking, we will hold one at a time and place announced by a later notice in the Federal Register.

Background and Purpose

This regulation proposes to establish a safety zone one hundred (100) yards upstream and downstream of the McArdle Bridge in Boston Harbor. The safety zone would be in effect for seven 3½ day periods spaced between 10 day channel openings on the following dates and times: from sunset on Monday, April 2, 2001 until sunrise on Friday, April 6, 2001; from sunset on Monday, June 11, 2001 until sunrise on Friday, June 15, 2001; from sunset on Monday, June 25, 2001 until sunrise on Friday, June 29, 2001; from sunset on Monday, July 9, 2001 until sunrise on Friday, July 13, 2001; from sunset on Monday, July 23, 2001 until sunrise on Friday, July 27, 2001; from sunset on Monday, August 6, 2001 until sunrise on Friday, August 10, 2001, and from sunset on Monday, August 20, 2001 until sunrise on Friday, August 24, 2001. Two contingency closures have been scheduled and will be used if previously scheduled closures need to be cancelled due to weather or other unavoidable events. The contingency closures are scheduledfrom sunset on Monday, September 3, 2001 until sunrise on Friday, September 7, 2001; and from sunset on Monday, September 17, 2001 until sunrise September 21, 2001.

The zone would restrict movement within this portion of Boston Harbor and is needed to allow TMC to conduct repairs on the McArdle Bridge. The Captain of the Port anticipates minimal negative impact on vessel traffic due to this event. Public notifications will be made prior to the effective period via safety marine information broadcasts and local notice to mariners.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979).

The Coast Guard expects the economic impact of this proposed rule to be so minimal that a full Regulatory Evaluation under paragraph 10e of the regulatory policies and procedures of DOT is unnecessary.

Although this proposed regulation will prevent traffic from transiting a portion of Boston Harbor during the effective periods, the effects of this regulation will not be significant due to the extensive planning that took place between marine and cargo stakeholders and Coast Guard Marine Safety Office Boston representatives. On November 30, 2000, December 14, 2000, and January 4, 2001 the Coast Guard hosted planning meetings with the City of Boston Department of Public Works, Massachusetts Highway Department, TMC, Chelsea River vessel operators, local barge companies, Massachusetts Port Authority, Logan Airport representatives and fuel suppliers, and Chelsea River marine terminals. The meetings explored bridge repair and channel closure options. On January 4, 2001 a final group consensus was achieved on which this proposed rule is based. Other elements reducing vessel impact include: the minimal time that vessels will be restricted from the area and the advance notifications which will be made to the local maritime community by safety marine information broadcasts and local notice to mariners.

Small Entities

Under the Regulatory Flexibility Act (5 U.S.C. 601-612), the Coast Guard considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in a portion of Chelsea River between April 2, 2001 and August 24, 2001, during the designated 3½ day closures. This safety zone will not have a significant economic impact on a substantial number of small entities for the following reasons: the minimal time that vessels will be restricted from the area and the advance notifications which will be made to the local maritime community by safety marine information broadcasts and local notice to mariners.

If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Pub. L. 104-121), the Coast Guard wants to assist small entities in understanding this proposed rule so that they can better evaluate its effects on them and participate in the rulemaking. If the rule would affect your small business, organization, or governmental jurisdiction and you have questions concerning its provisions or options for compliance, please contact LTjg Dave Sherry at the address listed under ADDRESSES.

Collection of Information

This proposed rule would call for no new collection of information under the Paperwork Reduction Act of 1995 (44 U.S.C. 3501-3520).

Federalism

The Coast Guard analyzed this proposed rule under E.O. 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

The Coast Guard analyzed this proposed rule under E.O. 13045, Protection of Children from Environmental Health Risks and Safety Risks. This rule is not an economically significant rule and does not pose an environmental risk to health or risk to safety that may disproportionately affect children.

Environment

The Coast Guard considered the environmental impact of this proposed rule and concluded that, under figure 2-1, (34)(g), of Commandant Instruction M16475.1C, this proposed rule is categorically excluded from further environmental documentation. A “Categorical Exclusion Determination” is available in the docket where indicated under ADDRESSES.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.

2. Add temporary § 165.T01-021 to read as follows:

§ 165.T01-021 Safety Zone: McArdle Bridge Repairs—Boston, Massachusetts

(a) Location. The following area is a safety zone: All waters of Boston Inner Harbor one hundred (100) yards upstream and downstream of the McArdle Bridge, Boston, MA.

(b) Effective Date. This section is effective from sunset on Monday until sunrise on Friday for the following dates: April 2 until April 6, 2001; June 11 until June 15, 2001; June 25 until June 29, 2001; July 9 until July 13, 2001; July 23 until July 27, 2001; August 6, until August 10, 2001, and August 20 until August 24, 2001.

(c) Regulations.

(1) In accordance with the general regulations in section 165.23 of this part, entry into or movement within this zone will be prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: February 21, 2001.
J.R. Whitehead,
Captain, U.S. Coast Guard, Captain of the Port, Boston, Massachusetts.

[FR Doc. 01-5601 Filed 3-7-01; 8:45 am]

BILLING CODE 4910-15-U